DEPARTMENT OF LABOR

Office of the Solicitor; Public Forum on the Department of Labor Freedom of Information Act (FOIA) Improvement Plan

AGENCY: Office of the Solicitor (SOL), Department of Labor.

ACTION: Scheduling of public forum; invitation to participate and request for comments.

SUMMARY: The Department of Labor is scheduling a public forum to seek input from the public on how it might improve the quality and efficiency of the Department's administration of the Freedom of Information Act (FOIA). This forum is part of the Department's FOIA Improvement Plan finalized earlier in 2006. Interested persons are encouraged to submit written comments in response to the questions contained in this notice and offer additional suggestions for improving the quality and efficiency of the Department's FOIA efforts. Attendees are invited to speak on these questions and other related issues at the public forum; those who only wish to observe the forum are welcome to attend as well. The Department's FOIA Improvement Plan is available at http://www.dol.gov/dol/foia/ (See link for “Agency Plan and Report”).

Background: On June 14, 2006, the Department submitted its FOIA Improvement Plan and Report pursuant to Executive Order 13392 (“Improving Agency Disclosure of Information”). As part of its FOIA Improvement Plan, the Department has been examining various components of its FOIA practices and procedures. One key component of the plan is outreach to the requester community and solicitation of input concerning ways the Department could improve the quality and efficiency of its FOIA efforts. At this time, the Department is soliciting input on ways to improve its FOIA efforts and, in particular, its written communication with individual requesters.

The Department is convening this forum to begin the public input process. The first part of the program will consist of presentations by Departmental officials involved in the FOIA process. The second part of the program will be set aside to allow members of the requester community and the public to make suggestions or ask questions about the Department's FOIA Improvement Plan or its FOIA processes generally.

DATES: Forum. The public forum will take place at the DOL Auditorium, Frances Perkins Building, U.S. Department of Labor, 200 Constitution Ave., NW., Washington DC 20210. The forum is scheduled for 10 a.m. to 12 p.m., December 18, 2006.

Written comments. The Department invites oral and written comments in connection with the forum. Comments may be submitted by mail, facsimile or electronically.

Notice of intention to speak at the forum. In order to accommodate maximum participation at the forum, the Department asks that individuals wishing to speak submit a written intention to speak at the forum by December 14, 2006. Notices may be submitted by mail, facsimile or electronically. If possible, please include an e-mail address or fax number in your notice, so we may contact you about scheduling. The Department requests that presentations be limited to no more than 10 minutes. The amount of time allotted will depend on the number of speakers who wish to speak.

ADDRESSES: Written comments and notices of intention to speak at the forum may be submitted by mail, facsimile, or electronic means:

Written comments: The Department encourages written comments (including electronic or facsimile form) relating to the subject of the forum on an ongoing basis. They may be submitted to the address below.

Mail: Submit three copies of written comments to: Mr. Brad Mantel, Office of Legal Counsel, Office of the Solicitor, U.S. Department of Labor, 200 Constitution Ave., NW., Room N-2700, Washington DC 20210, telephone (202) 693-4964.

Facsimile: If your comments are 10 pages or fewer, you may fax them to Mr. Mantel at (202) 693-5774.

Electronic: You may submit comments electronically to Mr. Mantel at mantel.brad@dol.gov.

Notice of intention to speak at the forum:

Mail: You may submit a notice of intention to speak to Mr. Brad Mantel, Office of Legal Counsel, Office of the Solicitor, U.S. Department of Labor, 200 Constitution Ave., NW., Room N-2700, Washington, DC 20210, telephone (202) 693-4964.

Facsimile: You may fax your notice of intention to speak to Mr. Mantel at (202) 693-5774.

Electronic: You may also electronically submit your intention to speak to Mr. Mantel at mantel.brad@dol.gov.

FOR FURTHER INFORMATION CONTACT: Brad Mantel, Office of Legal Counsel, Office of the Solicitor, telephone (202) 693-4964.

SUPPLEMENTARY INFORMATION: The forum will include agency presentations from Departmental officials on the FOIA Improvement Plan and agency FOIA processes, including the Department's Chief FOIA Officer and the FOIA Public Liaison. The forum is also designed to obtain input from the requester community through an open-microphone session in which participants can address suggestions or questions to the Departmental FOIA agency staff. The Department is particularly interested in hearing from the requester community and the public on the following issues, but encourages input on a broad range of issues and ideas relating its FOIA process:

Question 1: What additional information can the Department provide on its Web site to assist members of the public in making FOIA requests?

Question 2: What additional methods can the Department utilize to improve communication with the requester community?

Question 3: What is the best way of providing requesters information on the status of their FOIA requests?

Question 4: What information should be included in all FOIA acknowledgement letters?

Question 5: Would a continuing dialogue with the requester community about the Department's FOIA process be useful? If so, what is the optimal format? Should DOL establish an “electronic” suggestion box for FOIA matters?

Individuals with disabilities wishing to attend the forum who need special accommodation should contact Mr. Mantel at (202) 693-4964, or at mantel.brad@dol.gov.

Authority: This notice was prepared under the direction of Robert A. Shapiro, Associate Solicitor for Legal Counsel and Chief FOIA Officer.

Signed at Washington, DC, this 5th day of December, 2006.
Robert A. Shapiro,
Associate Solicitor for Legal Counsel and Chief FOIA Officer.

[FR Doc. E6-20922 Filed 12-7-06; 8:45 am]

BILLING CODE 4510-23-P